NATIONAL ARCHIVES AND RECORDS ADMINISTRATION

36 CFR Part 1258

[FDMS Docket NARA-07-0002]

RIN 3095-AB49

NARA Reproduction Fees

AGENCY: National Archives and Records Administration (NARA).

ACTION: Final rule.

SUMMARY: NARA is revising its regulations relating to reproduction of records and other materials in the custody of the Archivist of the United States. We have determined that it is not appropriate to include in those regulations the reproduction of records of other Federal agencies stored in NARA Federal records centers that are not in our legal custody. This final rule will affect individuals and Federal agencies who request copies of Federal agency records in NARA Federal records centers.

DATES: Effective date: May 29, 2007.

FOR FURTHER INFORMATION CONTACT: Jennifer Davis Heaps at 301-837-1850 or fax at 301-837-0319.

SUPPLEMENTARY INFORMATION: On February 26, 2007, NARA published an interim final rule (72 FR 8279) for a 60-day public comment period removing records center holdings from our reproduction fee schedule. We received one responsive comment on the interim final rule. Other comments received through www.regulations.gov in the interim final rule docket were nonresponsive because they related to the NARA proposed rule published in the Federal Register on the same day. We have transferred those comments to the proposed rule docket and will consider them as part of that rulemaking. The individual who commented on the interim final rule expressed concern about the absence of set fees for copies of agency records from the NARA fee schedule. The commenter asked who would determine the reproduction fees and how would the fees be set. We did not adopt this comment because records stored in NARA's records centers still belong to the agencies that created them. As explained in the interim final rule, NARA provides copies according to the owning agency's instructions; the agency, not NARA, must determine the extent to which reproduction costs will be borne by the agency or the agency's customer.

This final rule is not a significant regulatory action for the purposes of Executive Order 12866 and has not been reviewed by the Office of Management and Budget. As required by the Regulatory Flexibility Act, I certify that this rule will not have a significant impact on a substantial number of small entities because it affects individual researchers. This regulation does not have any federalism implications. This rule is not a major rule as defined in 5 U.S.C. Chapter 8, Congressional Review of Agency Rulemaking.

List of Subjects in 36 CFR Part 1258

Archives and records.

PART 1258—FEES

Accordingly, the interim final rule amending 36 CFR part 1258 which was published at 72 FR 8279 on February 26, 2007, is adopted as a final rule without change.

Dated: May 23, 2007.
Allen Weinstein,
Archivist of the United States.

[FR Doc. E7-10359 Filed 5-25-07; 8:45 am]

BILLING CODE 7515-01-P